ENVIRONMENTAL PROTECTION AGENCY

[FRL-9913-86-Region-1]

Notice of Availability of Draft NPDES General Permits MAG07000 and NHG07000 for Discharges From Dewatering Activities in the Commonwealth of Massachusetts and the State of New Hampshire: The Dewatering General Permit (DGP)

AGENCY: Environmental Protection Agency (EPA).

ACTION: Notice of Availability of Draft NPDES General Permits MAG07000 and NHG07000.

SUMMARY: The Director of the Office of Ecosystem Protection, EPA-New England, is providing a notice of availability of draft National Pollutant Discharge Elimination System (NPDES) general permits for dewatering activity discharges to certain waters of the Commonwealth of Massachusetts and the State of New Hampshire. These General Permits replace the Dewatering General Permits, which expired on September 30, 2013.

DATES: Comment on the draft general permits must be received on or before August 18, 2014.

Public Hearing Information: EPA will hold a public hearing, if necessary, in accordance with 40 CFR 124.12 and will provide interested parties with the opportunity to provide written and/or oral comments for the official administrative record.

ADDRESSES: Comments on the draft general permits shall be submitted by one of the following methods:

(1) Email: alvarez.victor@epa.gov or

(2) Mail: Victor Alvarez, U.S. EPA—Region 1, 5 Post Office Square—Suite 100, Mail Code OEP06-4, Boston, MA 02109-3912. No facsimiles (faxes) will be accepted.

The draft permit is based on an administrative record available for public review at EPA—Region 1, Office of Ecosystem Protection, 5 Post Office Square—Suite 100, Boston, Massachusetts 02109-3912. A reasonable fee may be charged for copying requests. The facts sheet for the draft general permit sets forth principal facts and the significant factual, legal, methodological and policy questions considered in the development of the draft permit and is available upon request. A brief summary is provided as SUPPLEMENTARY INFORMATION below.

FOR FURTHER INFORMATION CONTACT: Additional information concerning the draft General Permits may be obtained between the hours of 9 a.m. and 5 p.m. Monday through Friday, excluding holidays, from Victor Alvarez, Office of Ecosystem Protection, 5 Post Office Square—Suite 100, Boston, MA 02109-3912; telephone: 617-918-1572; email: alvarez.victor@epa.gov.

SUPPLEMENTARY INFORMATION: EPA is proposing to reissue two draft general permits for the discharge of uncontaminated water from construction dewatering intrusion and/or stormwater accumulation from sites that disturb less than one acre of land and short and long term dewatering of foundation sumps. While the draft general permits are two distinct permits, for convenience, EPA has grouped them together in a single document and has provided a single fact sheet for the two draft general permits. This document refers to the draft general “permit” in the singular. The draft general permit, appendices and fact sheet are available at: http://www.epa.gov/region1/npdes/dewatering.html.

The draft General Permit establishes Notice of Intent (NOI) requirements, effluent limitations, standards, prohibitions, and management practices for facilities with construction dewatering of groundwater intrusion and/or storm water accumulation from sites less than one acre and short-term and long-term dewatering of foundation sumps. The draft permit includes effluent limitations based on best professional judgment (BPJ) and water quality considerations. When EPA has not promulgated effluent limitations for a category of discharges, or if an operator discharges a pollutant not covered by an effluent limitation guideline, effluent limitations may be based on the BPJ of the agency or permit writer. The BPJ limits in the general permit are in the form of non-numeric control measures, commonly referred to as best management practices (BMPs). The effluent limits established in the draft permit assures that the surface water quality standards of the receiving water are protected, maintained and/or attained. Discharges that contain pollutants in quantities which represent reasonable potential to cause or contribute to violations of water quality standards will not be granted coverage under this general permit. Those dischargers must either apply for an individual permit or seek coverage under EPA's Remediation General Permit.

Other Legal Requirements

Endangered Species Act (ESA)

The provisions related to the ESA have be updated from the 2008 general permit and new species of concern have been added. EPA has requested concurrence from the appropriate federal services (U.S Fish and Wildlife Service and National Marine Fisheries Service) in connection with this draft permit.

Authority: This action is being taken under the Clean Water Act, 33 U.S.C. 1251 et seq.

Dated: June 19, 2014.
H. Curtis Spalding,
Regional Administrator.

[FR Doc. 2014-16809 Filed 7-16-14; 8:45 am]

BILLING CODE 6560-50-P